OFFICE OF NATIONAL DRUG CONTROL POLICY

Paperwork Reduction Act; 30-Day Notice

AGENCY: Office of National Drug Control Policy.

The Office of National Drug Control Policy (ONDCP) proposes the extension of three existing data collection instruments used in the production of ONDCP's National Youth Anti-Drug Media Campaign advertising and Media Campaign advertising tracking.

Purpose: The National Youth Anti-Drug Media Campaign is in the process of extending three data collection instruments. These data collection instruments—pre-production qualitative (or “focus group”) testing of creative advertising concepts (OMB 3201-0011), pre-broadcast quantitative (or “copy”) testing of developed advertising (OMB 3201-0006), and a tracking study to measure advertising effectiveness (OMB 3201-0010)—are critical to the continuity and improvement of the Media Campaign.

Type of Collections: OMB 3201-0011-Qualitative Research—Focus groups; OMB 3201-0006—Copy testing—15-minute online interviews; OMB 3201-0010—Tracking Study—15-minute online interviews.

Title of Collections: See above.

Frequency: OMB 3201-0011—Qualitative Research—Quarterly; OMB 3201-0006—Copy testing—Quarterly; OMB 3201-0010—Tracking Study—Weekly.

Affected Public: Teenagers and adult influencers of teenagers.

Estimated Burden: OMB 3201-0011—Qualitative Research—$19,800; OMB 3201-0006—Copy testing—$16,500; OMB 3201-0010—Tracking Study—$37,700.

Comments: Address comments within 30-days to Andrew Hertzberg, Executive Office of the President, Office of National Drug Control Policy, Washington, DC 20503; by email at AHertzberg@ondcp.eop.gov; or by fax at (202) 395-6721. For further information, contact Mr. Hertzberg at (202) 395-6353.

Signed in Washington, DC on April 3, 2013.
Daniel R. Petersen,
Deputy General Counsel.

[FR Doc. 2013-08154 Filed 4-8-13; 8:45 am]

BILLING CODE 3180-02-P